DELAWARE RIVER BASIN COMMISSION

Notice of Commission Meeting and Public Hearing

Notice is hereby given that the Delaware River Basin Commission will hold an informal conference followed by a public hearing on Wednesday, March 1, 2006. The hearing will be part of the Commission's regular business meeting. Both the conference session and business meeting are open to the public and will be held at the Commission's office building, located at 25 State Police Drive in West Trenton, New Jersey.

The conference among the commissioners and staff will begin at 10:15 a.m. Topics of discussion will include a presentation on the State of Delaware Water Supply; an update on the State of the Basin Report currently under development; a presentation on the Oyster Revitalization Initiative in the Delaware Bay; a status report on the Development of a Long-Term Flow Regime for the New York City Reservoirs; a discussion about a forum to advance coordination among federal agencies that partner with the DRBC; and an update on activities relating to PCBs in the Delaware River.

The subjects of the public hearing to be held during the 1:30 p.m. business meeting include the dockets listed below:

1. DSM Nutritional Products, Inc. D-85-14-3. An application for renewal of a ground water and surface water withdrawal project to continue to supply up to 120 mg/30 days of water for industrial process, potable and sanitary uses and ground water remediation purposes to the applicant's manufacturing facility from six existing wells in the Pleistocene Alluvial Formation and one existing surface water intake located on the main stem of the Delaware River. The project is located in the Delaware River Watershed in White Township, Warren County, New Jersey.

2. J.G. Townsend, Jr. & Co. D-89-48-3. An application for the renewal of a ground water withdrawal project to continue withdrawal of 15 million gallons per thirty days to supply the applicant's vegetable processing facility from existing Wells Nos. 1 and 5 in the Columbia Formation. The project is located in the Savannah Ditch Watershed in the Town of Georgetown, Sussex County, Delaware.

3. Borough of Shoemakersville D-90-7 CP-3. An application for the renewal of a ground water withdrawal project to continue withdrawal of 7.5 mg/30 days to supply the applicant's public water supply distribution system from existing Wells Nos. 1, 3, 4, 5 and 6 in the Hamburg Formation. The project is located in the Schuylkill River Watershed in Shoemakersville Borough and Perry Township, Berks County, Pennsylvania.

4. BP Oil Company D-91-32 (G)-2. An application for the renewal of a ground water decontamination project to withdraw up to 1 million gallons per day for treatment and discharge to the Delaware River through an existing outfall in DRBC Water Quality Zone 4. The project is located at the former BP Oil Company Refinery located off of Mantua Avenue in Paulsboro Borough, Gloucester County, New Jersey. Up to 30 mg/30 days of ground water is withdrawn from existing Wells Nos. R-4A, R-5A, R-6A, R-8, R-9 and R-10 and from new Wells Nos. R-11 and R-12, all located in New Jersey Critical Area 2 of the Potomac-Raritan-Magothy Formation.

5. E.I. du Pont de Nemours and Company D-93-19-2. An application for renewal of a surface and ground water withdrawal project to continue withdrawal of 1,126 mg/30 days to supply the applicant's industrial facility from existing Wells Nos. INT-10B, R-5A, INT-103A, INT-102A, Q13-R01C, Q13-R01D, WS-1, M-259, M-257, CP-2, CP-4, WS-2, R-7, DW-8R, CL-1, CL-2, CL-3, and CP-7 and Salem Canal Surface Water Intake No. III. The project is located in the Glacial/PRM Aquifer and the Salem Canal Watershed in Carneys Point, Mannington and Pennsville Townships, Salem County, New Jersey.

6. Township of Lower Municipal Utilities Authority D-94-21 CP-2. An application to discontinue the withdrawal of water and close Wells Nos. AP-2 and 3 in the applicant's public water supply system, which have become unreliable sources of supply, and to withdraw water from replacement Wells Nos. 6 and 7. The total withdrawal from replacement Wells Nos. 6 and 7 and existing Wells Nos. 1, 2 and 4 remains limited to 93 mg/30 days. Well No. 7 is located in the Atlantic Basin. The project is located in the Cohansey Formation in the Delaware River Watershed in Lower Township, Cape May County, New Jersey.

7. Meter Services Company D-94-49 CP-2. An application for renewal of a ground water withdrawal project to continue to supply up to 3.6 mg/30 days of water to the applicant's public water supply distribution system from existing Wells Nos. 1 and 2 in the Brunswick Formation. The project is located in the Mill Creek Watershed in Buckingham Township, Bucks County, Pennsylvania, in the Southeastern Pennsylvania Ground Water Protected Area.

8. Rosenberger's Dairies, Inc. D-95-1-2. An application for the renewal of a ground water withdrawal project to continue withdrawal of 3.4 mg/30 days to supply the applicant's dairy processing facility from existing Wells Nos. R-1, R-3 and R-4 in the Brunswick Formation. The project is located in the West Branch Neshaminy Creek Watershed in Hatfield Township, Montgomery County, Pennsylvania and is located in the Southeastern Pennsylvania Ground Water Protected Area.

9. Clement Pappas & Co., Inc. D-95-37-2. An application for renewal of a ground water withdrawal project to continue to supply up to 73.4 mg/30 days of water to the applicant's food processing facility from existing Well No. 6B in the Kirkwood-Cohansey Formation. The project is located in the Cohansey River Watershed in Upper Deerfield Township, Cumberland County, New Jersey.

10. Sybron Chemicals, Inc. D-85-5-3. An application for the renewal of a ground water withdrawal project to decrease withdrawal from 77 mg/30 days to 34 mg/30 days to supply the applicant's industrial facility from existing Wells Nos. 4, 5 and EQ106 in the Middle Raritan and Mt. Laurel/Wenonah Aquifers. The project is located in the West Branch Rancocas Watershed in Pemberton Township, Burlington County, New Jersey.

11. Willingboro Municipal Utilities Authority D-87-42 CP-3. An application for the renewal of a ground water withdrawal project and for an increase in withdrawal from 300 mg/30 days to 310 mg/30 days to supply the applicant's public water supply distribution system from existing Wells Nos. 1, 6, 9, 10, and 11 and new replacement Well No. 5A. Replacement Well No. 5A is located in the Potomac-Raritan-Magothy Formation. The project is located in the Rancocas Creek Watershed in Willingboro Township, Burlington County, New Jersey.

12. PPL Martins Creek, LLC D-87-56-2. An application to update the existing docket to reflect operational and structural modifications to Ash Basin No. 4 as a result of an ash slurry spill which occurred from Ash Basin No. 4 due to a wooden stop-log failure. Approximately 100 million gallons of ash slurry was released from Ash Basin No. 4 from August 23-30, 2005. In addition, this project includes emergency remediation activities that PPL conducted in response to the ash slurry spill. Emergency approval was granted by letter dated October 12, 2005 for this project. The project discharges to the Delaware River in DRBC Water Quality Zone 1D, which is designated Special Protection Waters. The facility is located in Lower Mount Bethel Township, Northampton County, Pennsylvania.

13. E.I. du Pont de Nemours and Company D-88-85-2. An application to update and renew an existing industrial waste treatment plant (IWTP) discharge docket, which includes clarifying the Area Served and granting preliminary approval for the installation of a new outfall extension and diffuser. The IWTP discharges to Zone 5 of the Delaware River. DuPont Chambers Works is a large multi-product chemical manufacturing plant. The facility has an IWTP that is classified by EPA as a Centralized Waste Treatment system. The facility is located in Pennsville and Carneys Point, Salem County, New Jersey. The application does not request the Commission's approval to accept VX hydrolysate for treatment and discharge at the DuPont Chambers Works IWTP.

14. Hamburg Municipal Authority D-92-73 CP-2. An application to expand a 1.0 mgd wastewater treatment plant (WWTP) to treat 1.5 mgd, while continuing to provide advanced treatment via activated sludge and chemical addition processes. The WWTP will continue to serve the Borough of Hamburg, and portions of Tilden and Windsor townships, all in Berks County, Pennsylvania. The proposed expansion will enable the docket holder to serve the Borough of Port Clinton in Schuylkill County, Pennsylvania as well. The WWTP is located in Hamburg Borough, just east of State Route 61 on the east bank of the Schuylkill River, to which the plant will continue to discharge. At the WWTP outfall, the Schuylkill River is conditionally designated as “Modified Recreational” in the DRBC Comprehensive Plan.

15. Purex Industries, Inc. D-93-34 (G)-2. An application for the renewal of a ground water withdrawal project to decrease withdrawal from 11.23 million gallons per thirty days (mg/30 days) to 7.78 mg/30 days to supply the applicant's ground water remediation project from existing Wells RW-2, RW-7, RW-9, RW-10, and RW-13 and new Wells MP-7, MP-19 and MP-30 in the Kirkwood-Cohansey Aquifer. The project is located in the Maurice River Watershed in the City of Millville, Cumberland County, New Jersey.

16. Jackson Township Municipal Utilities Authority D-94-18 CP-2. An application for the renewal of a ground water withdrawal project and increase in the applicant's withdrawal from 26.42 mg/30 days to 30 mg/30 days to supply the Six Flags Great Adventure Hurricane Harbor water amusement park from existing Wells Nos. 7, 10 and ASR-12 in the Upper Potomac-Raritan-Magothy Formation. The project is located in the Crosswicks Creek Watershed in Jackson Township, Ocean County, New Jersey.

17. Sunny Dell Foods, Inc. D-2000-23-2. An application to increase the discharge from the applicant's industrial waste treatment plant (IWTP) from 0.05 mgd to 0.072 mgd; modify effluent limits associated with the Christina River total maximum daily loads for CBOD5, ammonia, phosphorus and total nitrogen; and modify an existing contact cooling water system discharge of 0.09 mgd. Both the IWTP effluent and contact cooling water are discharged to the West Branch Red Clay Creek. The facility is located in Kennett Township, Chester County, Pennsylvania.

18. Swedesboro, Inc. (t/a Beckett Golf Club) D-87-77-1. An application for a surface water withdrawal project to supply up to 4.0 mg/30 days of water for supplemental irrigation of the applicant's golf course from existing Intakes Nos. 1 and 2. The surface water intakes are located on two on-site ponds. The project is located in the Oldmans Creek Watershed in Woolwich Township, Gloucester County, New Jersey. A Notice of Application Received (NAR) for this project was previously published on November 5, 1987 under docket number D-87-77. The current NAR reflects project revisions made since the 1987 application.

19. Mercer County Correction Center D-2002-50 CP. An application for approval of a ground water withdrawal project to supply up to 4.333 mg/30 days of water to the applicant's correctional facility from existing Wells Nos. 1, 3 and 4 and new Well No. 5, all in the Passaic Formation. The project is located in the Delaware River Watershed in the northwest corner of Hopewell Township, Mercer County, New Jersey.

20. Holman Enterprises—RMP Facility D-2004-25 1. An application for approval of a ground water withdrawal project to pump up to 7.45 million gallons per 30 days (mg/30 days) of water to be treated by the applicant's ground water remediation project from Wells Nos. MW-7D, MW-19D, MW-23D, R-77D, R-78D, R-79D, R-80D and R-81D in the Potomac-Raritan-Magothy Formation. The project is located in the Pennsauken Creek Watershed in Pennsauken Township, Camden County, New Jersey.

21. Town of Bethel D-2005-19 CP-1. An application to construct a groundwater/leachate seep collection and treatment system to serve the Town of Bethel Landfill, an inactive and officially closed domestic waste landfill located on a 10-acre parcel of municipal property off Old White Lake Turnpike, about 0.25 miles east of its intersection with State Route 55 in the Town of Bethel, Sullivan County, New York. Following aeration and sedimentation, up to 0.035 mgd of wastewater will be applied to a subsurface absorption bed for final processing and disposal. In addition to proposed Discharge Monitoring Reports, the existing groundwater monitoring well network will be used to assure that the proposed treatment system does not impair groundwater quality. The project is located in the Mongaup River Watershed upstream from Swinging Bridge Reservoir and in the drainage area of DRBC Special Protection Waters. Although the Town of Bethel Landfill is capped with impervious materials, it is an unlined facility with residual leachate seepage that currently flows overland to the West Branch Mongaup River without any prior treatment.

22. Chadds Ford Township D-2005-22 CP-1. An application to construct a 0.15 mgd WWTP to serve existing residents in a portion of Chadds Ford Township, Delaware County, Pennsylvania and future residents of the proposed subdivision at Camp Sunset Hill (Turner's Mill), also in Chadds Ford Township. The WWTP is proposed to provide advanced treatment via extended aeration and tertiary filtration prior to ultraviolet light disinfection and discharge to Harvey Run, a tributary of Brandywine Creek in the Christina River Watershed. Its proposed location is the intersection of U.S. Route 1 (Baltimore Pike) and Ring Road, across from the Brandywine Battlefield State Park. The Pantos WWTP that currently serves Chadds Ford Village and the Painter's Crossing Condominiums is proposed to be converted to a pumping station, which will route up to 35,000 gallons per day of flow to the new WWTP.

23. Motiva Enterprises, LLC D-2005-23-1. An application for approval of a ground water withdrawal project to supply up to 6.7 mg/30 days of water to the applicant's ground water remediation project from new Wells Nos. 1 through 9 in the Kirkwood-Cohansey Formation. The project is located in the Maurice River Watershed in Franklin Township, Gloucester County, New Jersey.

24. Congoleum Corporation D-2005-25-1. An application to discharge an average of 168,000 gallons per day of non-contact cooling water from the applicant's tile floor manufacturing facility. The discharge is to a Hamilton Township municipal storm sewer, which discharges to Pond Run, a tributary to the Assunpink Creek. The facility is located in Hamilton Township, Mercer County, New Jersey.

25. Tidewater Utilities, Inc. D-2005-26 CP-1. An application for approval of a ground water withdrawal project to supply up to 1.427, 1.22 and 1.22 mg/30 days of water to the applicant's North Dover District public water supply distribution system from new Wells Nos. SF-01, SF-02 and KWE-02, respectively. The wells are all located in the Federalsburg and Cheswold aquifers. The total withdrawal from all wells will be limited to 3.85 mg/30 days. The project is located in the Leipsic River Watershed in Kent County, Delaware.

26. Tidewater Utilities, Inc. D-2005-27 CP-1. An application for approval of a ground water withdrawal project to supply up to 0.13, 3.51 and 0.065 mg/30 days of water to the applicant's Wild Quail District public water supply distribution system from new Wells Nos. WQ-01, WQ-02 and WQ-04, respectively. Wells Nos. WQ-01 and WQ-04 are located in the Frederica Formation and Well No. WQ-02 is located in the Piney Point Aquifer. The total withdrawal from all wells will be limited to 3.51 mg/30 days. The project is located in the St. Jones River Watershed in Kent County, Delaware.

27. Penns Grove Sewerage Authority D-2005-29 CP-1. An application to upgrade, but not expand, a 0.75 million gallon per day wastewater treatment plant (WWTP), which serves Penns Grove Borough, Salem County, New Jersey. The WWTP upgrade will provide two new final clarifiers with appurtenances. The existing final clarifiers require costly chemical additives to meet NJPDES permit limits, particularly during surge flow conditions. The two new final clarifiers should reduce or eliminate the need to add costly chemicals to meet permit limits. Penns Grove Sewerage Authority requested and was granted emergency approval by the DRBC on January 12, 2006 to implement the WWTP improvements expeditiously, in order to meet a construction grant deadline. The WWTP will continue to discharge to the Delaware River in DRBC Water Quality Zone 5 through the existing outfall.

28. Camp Ramah in the Poconos D-2005-30-1. An application to upgrade an existing seasonally operated WWTP by the addition of a new primary clarification process and a new aeration system. Seasonally, the WWTP discharges approximately 30,000 gallons per day to an unnamed tributary of Equinunk Creek, a tributary to the West Branch Delaware River. The facility is located in Buckingham Township, Wayne County, Pennsylvania.

29. U.S. Army Corps of Engineers, Philadelphia District D-2005-32 CP-1. An application to modify the Prompton Dam to safely pass the Probable Maximum Flood (PMF) of 111,000 cubic feet per second (cfs), based upon revised estimates of flow regimes for the 60-square mile drainage area. The original PMF flow of 81,500 cfs was calculated in the year 1949, prior to advancements in mathematical modeling. Primarily a flood control facility, Prompton Dam is located in Prompton Borough, Wayne County, Pennsylvania. The lake that it forms on the West Branch Lackawaxen River extends into Clinton Township, also in Wayne County. The project involves the widening of the spillway from 50 to 85 feet, constructing a fuse-plug in the spillway, upgrading the outlet works rip-rap, and constructing an embankment with material that will be excavated from the spillway. The project is located in the drainage area of DRBC Special Protection Waters and the Upper Delaware Scenic and Recreational River.

In addition to the public hearing on the dockets listed above, the Commission's 1:30 p.m. business meeting will include a public hearing on a resolution to approve the Commission's FY 2006-2007 budget and work plan. The Commission also will consider a resolution amending the Basin Regulations—Water Supply Charges regarding certificates of entitlement; a resolution establishing the PMP Peer Review Advisory Committee; and a resolution authorizing the Executive Director to extend the Commission's contract with the Northeast-Midwest Institute on a month-to-month basis through December 31, 2006.

The meeting will also include: adoption of the Minutes of the December 7, 2005 business meeting; announcements; a report on basin hydrologic conditions; a report by the executive director; a report by the Commission's general counsel; and an opportunity for public dialogue. Draft dockets and the resolutions scheduled for public hearing on March 1, 2006 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission may accommodate your needs.

Dated: February 7, 2006.
Pamela M. Bush,
Commission Secretary.

[FR Doc. E6-1999 Filed 2-13-06; 8:45 am]

BILLING CODE 6360-01-P